DEPARTMENT OF THE TREASURY

Submission for OMB Review; Comment Request

September 5, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 15, 2002 to be assured of consideration.

Departmental Offices/International Portfolio Investment Data Reporting Systems

OMB Number: New.

Form Number: International Capital Form BQ-3.

Type of Review: New collection.

Title: Treasury International Capital (TIC) Form BQ-3: Report of Maturities of Selected Liabilities of Depository Institutions, Brokers and Dealers to Foreigners.

Description: Form BQ-3 is required by law and is designed to collect timely information on international portfolio capital movements, including maturities of selected U.S. dollar and foreign currency liabilities of depository institutions, bank & financial holding companies, brokers and dealers to foreigners. This information is necessary for compiling U.S. balance of payments accounts, complying with international data reporting standards, and formulating U.S. international financial and monetary-policies.

Respondents: Business or other for-profit.

Estimated Number of Respondents: 55.

Estimated Burden Hours Per Respondent: 4 hours.

Frequency of Response: Quarterly.

Estimated Total Reporting Burden: 880 hours.

OMB Number: 1505-0016.

Form Number: International Capital Form BQ-1.

Type of Review: Revision.

Title: Treasury International Capital (TIC) Form BQ-1: Report of Customers' U.S. Dollar Claims on Foreigners.

Description: Form BQ-1 is required by law and is designed to collect timely information on international portfolio capital movements, including U.S. dollar claims of customers of depository institutions, bank and financial holding companies, brokers an dealers vis-a-vis foreigners. This information is necessary for compiling U.S. balance of payments accounts, calculating U.S. international investment position, and formulating U.S. international financial and monetary policies.

Respondents: Business or other for-profit.

Estimated Number of Respondents: 310.

Estimated Burden Hours Per Respondent: 2 hours, 12 minutes.

Frequency of Response: Quarterly.

Estimated Total Reporting Burden: 2,720 hours.

OMB Number: 1505-0017.

Form Number: International Capital Form BC/BC(SA).

Type of Review: Revision.

Title: Treasury International Capital Form BC/BC(SA): Report of U.S. Dollar Claims of Depository Institutions, Brokers and Dealers on Foreigners.

Description: Form BC/BC(SA) is required by law and is designed to collect timely information on international portfolio capital movements, including own U.S. dollar claims of depository institutions, bank and financial holding companies, brokers and dealers vis-a-vis foreigners. This information is necessary for compiling the U.S. balance of payments accounts, calculating U.S. international investment position, and formulating U.S. international financial and monetary policies.

Respondents: Business and other for-profit.

Estimated Number of Respondents: 325.

Estimated Burden Hours Per Respondent: 9 hours, 24 minutes.

Frequency of Response: Monthly, Semi-annually.

Estimated Total Reporting Burden: 38,845 hours.

OMB Number: 1505-0018.

Form Number: International Capital Form BL-2/BL-2(SA).

Type of Review: Revision.

Title: Treasury International Capital (TIC) Form BL-2/BL-2(SA): Report of Customers' U.S. Dollar Liabilities to Foreigners.

Description: Form BL-2/BL-2(SA) is required by law and is designed to collect timely information on international portfolio capital movements, including U.S. dollar liabilities of customers of depository institutions, bank and financial holding companies, brokers and dealers vis-a-vis foreigners. This information is necessary for compiling U.S. balance of payments accounts, calculating U.S. international investment position, and formulating U.S. international financial and monetary policies.

Respondents: Business or other for-profit.

Estimated Number of Respondents: 90.

Estimated Burden Hours Per Respondent: 7 hours, 30 minutes.

Frequency of Response: Monthly, Semi-annually.

Estimated Total Reporting Burden: 8,635 hours.

OMB Number: 1505-0019.

Form Number: International Capital Form BL-1/BL-1(SA).

Type of Review: Revision.

Title: Treasury International Capital BL-1/BL-1(SA): Report of U.S. Dollar Liabilities of Depository Institutions, Brokers and Dealers to Foreigners.

Description: Form BL-1/BL-1(SA) is required by law and is designed to collect timely information on international portfolio capital movements, including U.S. dollar liabilities of depository institutions, bank and financial holding companies, brokers and dealers vis-a-vis foreigners. This information is necessary for compiling U.S. balance of payments accounts, calculating U.S. international investment position, and formulating U.S. international financial and monetary policies.

Respondents: Business or other for-profit.

Estimated Number of Respondents: 405.

Estimated Burden Hours Per Respondent: 6 hours, 30 minutes.

Frequency of Response: Monthly, Semi-annually.

Estimated Total Reporting Burden: 33,900 hours.

OMB Number: 1505-0020.

Form Number: International Capital Form BQ-2.

Type of Review: Revision.

Title: Treasury International Capital (TIC) Form BQ-2: Part 1—Report of Foreign Currency Liabilities and Claims of Depository Institutions, Brokers and Dealers, and of their Domestic Customers vis-a-vis Foreigners; and Part 2-Report of Customers' Foreign Currency Liabilities to Foreigners.

Description: Form BQ-2 is required by law and is designed to collect timely information on international portfolio capital movements, including liabilities and claims of depository institutions, bank and financial holding companies, brokers and dealers, and their customers' liabilities vis-a-vis foreigners, that are denominated in foreign currencies. This information is necessary for compiling U.S. balance of payments accounts, calculating U.S. international investment position, and formulation U.S. international financial and monetary policies.

Respondents: Business or other for-profit.

Estimated Number of Respondents: 120.

Estimated Burden Hours Per Respondent: 6 hours, 15 minutes.

Frequency of Response: Quarterly.

Estimated Total Reporting Burden: 3,000 hours.

Clearance Officer: Lois K. Holland, (202) 622-1563, Departmental Offices, Room 2110, 1425 New York Avenue, NW, Washington, DC 20220.

OMB Reviewer: Joseph F. Lackey, Jr., (202) 395-7316, Office of Management and Budget, Room 10235, New Executive Office Building, Washington, DC 20503.

Lois K. Holland,
Departmental Reports, Management Officer.

[FR Doc. 02-23308 Filed 9-12-02; 8:45 am]

BILLING CODE 4811-16-P